DEPARTMENT OF COMMERCE

International Trade Administration

Export Trade Certificate of Review

ACTION: Notice of application to amend the Export Trade Certificate of Review ssued to the American Sugar Alliance.

SUMMARY: Export Trading Company Affairs (“ETCA”) of the International Trade Administration, Department of Commerce, has received an application to amend an Export Trade Certificate of Review (“Certificate”). This notice summarizes the proposed amendment and requests comments relevant to whether the Certificate should be issued.

FOR FURTHER INFORMATION CONTACT: Jeffrey Anspacher, Director, Export Trading Company Affairs, International Trade Administration, (202) 482-5131 (this is not a toll-free number) or e-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination of whether an amended Certificate should be issued. If the comments include any privileged or confidential business information, it must be clearly marked and a nonconfidential version of the comments (identified as such) should be included. Any comments not marked as privileged or confidential business information will be deemed to be nonconfidential. An original and five (5) copies, plus two (2) copies of the nonconfidential version, should be submitted no later than 20 days after the date of this notice to: Export Trading Company Affairs, International Trade Administration, U.S. Department of Commerce, Room 7021B, Washington, DC 20230. Information submitted by any person is exempt from disclosure under the Freedom of Information Act (5 U.S.C. 552). However, nonconfidential versions of the comments will be made available to the applicant if necessary for determining whether or not to issue the Certificate. Comments should refer to this application as “Export Trade Certificate of Review, American Sugar Alliance, application number 06-A0003.”

The American Sugar Alliance's (“ASA”) original Certificate was issued on March 16, 2007 (72 FR 14081, March 26, 2007). A summary of the current application for an amendment follows.

Summary of the Application:

Applicant: American Sugar Alliance (“ASA”), 2111 Wilson Boulevard, Suite 600, Arlington, VA 22201.

Contact: Robert C. Cassidy, Jr., Counsel to ASA, Telephone: (202) 663-6740.

Application No.: 06-A0003.

Date Deemed Submitted: May 29, 2007.

Proposed Amendment: ASA seeks to amend its Certificate to:

1. Add the following company as a new “Member” of the Certificate within the meaning of section 325.2(l) of the Regulations (15 CFR 325.2(l)): Americane Sugar Refining LLC, Taylor, MI.

2. Revise the Export Trade Activities and Methods of Operation. The proposed changes, shown as underscored text, are as follows:

CPA Administration

The ASA will allocate all CPAs at one time. ASA may reallocate CPAs if a new Producer becomes a Member. In the event that any CPAs are returned to ASA for any reason, ASA will reallocate those CPAs among interested Producers. The allocation, and any reallocations, will be completed before December 16, 2007.

Information Collection and Exchange

ASA may ask Producers individually for their production capacity figures for 2006 for the purposes of allocating the CPAs. Producers may supply that information to ASA, and ASA may allocate and reallocate CPAs to Producers based on this information.

Dated: June 5, 2007.
Jeffrey Anspacher,
Director, Export Trading Company Affairs.

[FR Doc. E7-11145 Filed 6-8-07; 3:21 pm]

BILLING CODE 3510-DR-P